DEPARTMENT OF ENERGY

Agency Information Collection Extension

AGENCY: Bonneville Power Administration, Department of Energy.

ACTION: Submission for Office of Management and Budget (OMB) review; comment request.

SUMMARY: The Department of Energy (DOE) has submitted an information collection request to the OMB under the provisions of the Paperwork Reduction Act of 1995. The information collection requests a three-year approval of its collection, titled Contractor Safety, OMB Control Number 1910-NEW. The proposed collection, Contractor Safety, will be used to manage portions of the Safety program that are related to contractors. These collection instruments allow for compliance with Occupational Safety and Health Administration (OSHA) requirements.

DATES: Comments regarding this collection must be received on or before December 14, 2022. If you anticipate that you will be submitting comments but find it difficult to do so within the period allowed by this notice, please advise the OMB Desk Officer of your intention to make a submission as soon as possible. The Desk Officer may be telephoned at 202-881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Attn: Stephanie Noell, Privacy Program, by email at privacy@bpa.gov, or by phone at (503) 230-3881.

SUPPLEMENTARY INFORMATION: This information collection request contains: (1) OMB No.: 1910-NEW; (2) Information Collection Request Title: Contractor Safety; (3) Type of Request: New; (4) Purpose: This information collection will be used to manage BPA safety programs that relate to contractors: BPA F 5480.28e, Excavation/Trenching Permit, BPA F 6410.15e, Contractor's Report of Injury or Illness, BPA F 6410.18e, Contractor's Report of Incident/Near-Hit, BPA F 6410.42e, Contract Energized Electrical Work Permit; (5) Annual Estimated Number of Respondents: 190; (6) Annual Estimated Number of Total Responses: 190; (7) Annual Estimated Number of Burden Hours: 50; (8) Annual Estimated Reporting and Recordkeeping Cost Burden: $0.

Statutory Authority: The Bonneville Project Act of 1937, 16 U.S.C 832a; and the following additional authorities: 42 U.S.C. 7101; 5 U.S.C. 301; 29 U.S.C. 657 and 29 CFR part 1926.

Signing Authority: This document of the Department of Energy was signed on November 4, 2022, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 8, 2022.
Treena V. Garrett,
Federal Register Liaison Officer, U.S. Department of Energy.

[FR Doc. 2022-24667 Filed 11-10-22; 8:45 am]

BILLING CODE 6450-01-P